DEPARTMENT OF THE INTERIOR

Bureau of Land Management

[ES-960-1430-ET; WIES-48137]

Public Land Order No. 7584; Revocation of Executive Order Dated October 19, 1866; Wisconsin

AGENCY: Bureau of Land Management, Interior.

ACTION: Public land order.

SUMMARY: This order revokes in its entirety, an 1866 Executive Order which reserved 8.8 acres of public land for the Eagle Bluff Light Station. The land is no longer needed by the United States Coast Guard for lighthouse purposes. This order will open 1.21 acres of the formally reserved land to surface entry

EFFECTIVE DATE: October 17, 2003.

FOR FURTHER INFORMATION CONTACT: Ed Ruda, BLM Eastern States Office, 7450 Boston Boulevard, Springfield, Virginia 22153, 703-440-1671.

SUPPLEMENTARY INFORMATION: All of the land, except as described in Paragraph 2, has been conveyed out of Federal ownership. This is a record clearing action only for the land that is no longer in Federal ownership.

Order

By virtue of authority vested in the Secretary of the Interior, including section 204 of the Federal Land Policy and Management Act of 1976, 43 U.S.C. 1714 (2000), it is ordered as follows:

1. The Executive Order dated October 19, 1866, which reserved public land for lighthouse purposes, is hereby revoked in its entirety.

2. At 10 a.m. on October 17, 2003, the land described below will be opened to the operation of the public land laws generally, subject to valid existing rights, the provision of existing withdrawals, other segregations of record, and the requirements of applicable law. All valid applications received at or prior to 10 a.m. on October 17, 2003, shall be considered as simultaneously filed at that time. Those received thereafter shall be considered in the order of filing.

Fourth Principal Meridian

T. 31 N., R. 27 E.,

Eagle Bluff Light Station Reservation, located in Fractional NE¼ of sec. 17, being more particularly described as:

Beginning at the Triangulation Station “Eagle Bluff”, 1874, 1934, 1953, T. 31 N., R. 27 E.,

Thence, N. 89°50′ E, 0.227 chains to the WC MC, the place of beginning, S. 49°05′ E., 3.135 chains, to Angle Point #1, N. 38°17′ E., 2.502 chains, to Angle Point #2, N. 40°10′ W., 4.001 chains, to MC on the present shoreline of Green Bay,

Thence with meanders of Green Bay, S. 59°35′ W., 1.14 chains, S. 37°38′ W., 1.90 chains, S. 30°23′ W., 0.15 chains to MC on the present shoreline of Green Bay,

Thence, S. 49°05′ E., 1.160 chains to WC MC, the place of beginning.

The area described contains 1.21 acres in Door County.

Dated: September 3, 2003.
Rebecca W. Watson,
Assistant Secretary—Land and Minerals Management.

[FR Doc. 03-23693 Filed 9-16-03; 8:45 am]

BILLING CODE 4310-GJ-P